DEPARTMENT OF HOMELAND SECURITY

Federal Emergency Management Agency

[Docket ID: FEMA-2010-0013]

Agency Information Collection Activities: Submission for OMB Review; Comment Request, OMB No. 1660-0026; State Administrative Plan for the Hazard Mitigation Grant Program

AGENCY: Federal Emergency Management Agency, DHS.

ACTION: Notice; 30-day notice and request for comments; revision of a currently approved information collection; OMB No. 1660-0026; No Form.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 13, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: State Administrative Plan for the Hazard Mitigation Grant Program.

Type of information collection: Revision of a currently approved information collection.

OMB Number: 1660-0026.

Form Titles and Numbers: No Form.

Abstract: The State Administrative Plan is a procedural guide that details how the State will administer the Hazard Mitigation Grant Program (HMGP). An approved plan is a prerequisite of receiving HMGP funds and is used by FEMA in making a determination of the approval for a grant and how much each grant will be. The administrative plan may take any form including a chapter within a comprehensive State mitigation program strategy.

Affected Public: State, local, or Tribal Government.

Estimated Number of Respondents: 32.

Frequency of Response: On Occasion.

Estimated Average Hour Burden per Respondent: 16 Hours.

Estimated Total Annual Burden Hours: 512 Hours.

Estimated Cost: There are no capital, operations and maintenance, or start-up costs associated with this collection.

Dated: July 7, 2010.
Tammi Hines,
Acting Director, Records Management Division, Mission Support Bureau, Federal Emergency Management Agency, Department of Homeland Security.

[FR Doc. 2010-17084 Filed 7-13-10; 8:45 am]

BILLING CODE 9110-13-P